FEDERAL COMMUNICATIONS COMMISSION

Notice of Public Information Collection(s) Being Reviewed by the Federal Communications Commission, Comments Requested.

February 26, 2004.

SUMMARY: The Federal Communications Commission, as part of its continuing effort to reduce paperwork burden, invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before May 10, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith B.Herman@fcc.gov.

SUPPLEMENTARY INFORMATION: OMB Control Number: 3060-0192.

Title: Section 87.103, Posting Station License.

Form No.: N/A.

Type of Review: Extension of a currently approved collection.

Respondents: Business or other for-profit, not-for-profit institutions, individuals or household, and state, local and tribal government.

Number of Respondents: 47,800.

Estimated Time per Response: 15 minutes (.25 hours).

Frequency of Response: Recordkeeping requirement.

Total Annual Burden: 11,950 hours.

Total Annual Cost: N/A.

Needs and Uses: The recordkeeping requirement in 47 CFR section 87.103 is necessary to demonstrate that all transmitters in the Aviation Service are properly licensed in accordance with the requirements of Section 301 of the Communications Act of 1934, as amended, 47 U.S.C. 301, No. 2020 of the International Radio Regulations, and Article 30 of the Convention on International Civil Aviation. This requirement facilitates the quick resolution of any harmful interference problems and ensures that the station is operation in accordance with the appropriate rules, statutes, and treaties. The Commission is seeking an extension (no change in requirements) in order to obtain the full three year OMB clearance.

OMB Control Number: 3060-0957.

Title: Wireless Enhanced 911 Service, Fourth Memorandum Opinion and Order.

Form No.: N/A.

Type of Review: Extension of a currently approved collection.

Respondents: Business or other for-profit, not-for-profit institutions, state, local or tribal government and individuals or household.

Number of Respondents: 2,500.

Estimated Time per Response: 3 hours.

Frequency of Response: On occasion reporting requirement.

Total Annual Burden: 7,500 hours.

Total Annual Cost: N/A.

Needs and Uses: The Fourth Memorandum Opinion and Order (MO&O) responded to petitions for reconsideration of certain aspects of the Third Report and Order (R&O) in this proceeding concerning establishment of a nationwide wireless enhanced 911 emergency communications service. This decision revised, among other things, the deployment schedule that must be followed by wireless carriers that choose to implement E911 service using a handset-based technology. The public burden involves guidelines for filing successful requests for waiver of the E911 Phase II rules. Also, an existing approved burden is slightly changed (but not resubmitted) by extending the deadline for filing reports.

OMB Control Number: 3060-0975.

Title: Promotion of Competitive Networks in Local Telecommunications Markets Multiple Environments (47 C.F.R. Parts 1, 64 & 68).

Form No.: N/A.

Type of Review: Extension of a currently approved collection.

Respondents: Business or other for-profit, not-for-profit institutions, Federal government, State, local or tribal government and individuals or household.

Number of Respondents: 6,421.

Estimated Time per Response: .50-120 hours.

Frequency of Response: On occasion reporting requirement and third party disclosure requirement.

Total Annual Burden: 623,910 hours.

Total Annual Cost: N/A.

Needs and Uses: This collection involves information regarding the location of the demarcation point, antennas placed on subscriber premised, and the state of the market. This information will be used to foster competition in local telecommunications markets by ensuring that competing telecommunications providers are able to provide services to customers in multiple tenant environments. The Commission is seeking an extension (no change) to obtain the full three year OMB clearance.

OMB Control Number: 3060-0979.

Title: Spectrum Audit Letter.

Form No.: N/A.

Type of Review: Revision of currently approved collection.

Respondents: Business or other for-profit, not-for-profit institutions, State, local or tribal government and individuals or household.

Number of Respondents: 310,000.

Estimated Time per Response: .50 hours.

Frequency of Response: One time reporting requirement.

Total Annual Burden: 155,000 hours.

Total Annual Cost: N/A.

Needs and Uses: The information collected is required for audits of the construction/buildout requirements and/or operational status of various Wireless Radio services in the Commission's licensing database that are subject to rule-based construction/buildout and operational requirements. The Commission's rules for these radio services require construction/buildout within a specified timeframe and require a station to remain operational in order for the license to remain valid.

The Commission is revising this information collection to reflect that automation of the audit process will increase electronic filing from 20% to 80% and reduce the cost to the government.

Federal Communications Commission.
Marlene H. Dortch,
Secretary.

[FR Doc. 04-5269 Filed 3-8-04; 8:45 am]

BILLING CODE 6712-01-P